COMMISSION ON CIVIL RIGHTS

Notice of Public Meeting of the Texas Advisory Committee

AGENCY: U.S. Commission on Civil Rights.

ACTION: Announcement of webhearing.

SUMMARY: Notice is hereby given, pursuant to the provisions of the rules and regulations of the U.S. Commission on Civil Rights (Commission) and the Federal Advisory Committee Act (FACA) that the Texas Advisory Committee (Committee) will hold a series of briefings via webex platform on Tuesday, December 1, Thursday, December 3, and Tuesday, December 8, 2020 at 2:00 p.m. Central Time. The purpose for the briefings is to hear testimony on the civil rights implications of the government response to hurricane disasters.

DATES: These briefings will be held on:

• Tuesday, December 1, 2020 at 2:00 p.m. CT

• Thursday, December 3, 2020 at 2:00 p.m. CT

• Tuesday, December 8, 2020 at 2:00 p.m. CT

ADDRESSES:

• Tuesday, December 1: https://tinyurl.com/yypcgupr

• Thursday, December 3: https://tinyurl.com/y4rgebq6

• Tuesday, December 8: https://tinyurl.com/y44h82en

FOR FURTHER INFORMATION CONTACT: Brooke Peery, Designated Federal Officer (DFO) at bpeery@usccr.gov or by phone at (202) 701-1376. Persons with hearing impairments may also follow the proceedings by first calling the Federal Relay Service at 1-800-877-8339 and providing the Service with the conference call number and conference ID number.

SUPPLEMENTARY INFORMATION: Members of the public are entitled to make comments during the open period at the end of the meeting. Members of the public may also submit written comments; the comments must be received in the Regional Programs Unit within 30 days following the meeting. Written comments may be mailed to the Western Regional Office, U.S. Commission on Civil Rights, 300 North Los Angeles Street, Suite 2010, Los Angeles, CA 90012 or email Brooke Peery (DFO) at bpeery@usccr.gov.

Records and documents discussed during the meeting will be available for public viewing prior to and after the meeting at https://www.facadatabase.gov/FACA/FACAPublicViewCommitteeDetails?id=a10t0000001gzkoAAA.

Please click on the “Meeting Details” and “Documents” links. Records generated from this meeting may also be inspected and reproduced at the Regional Programs Unit, as they become available, both before and after the meeting. Persons interested in the work of this Committee are directed to the Commission's website, https://www.usccr.gov, or may contact the Regional Programs Unit at the above email or street address.

Agenda

I. Roll Call & Chair Remarks

II. Panelist Statements

III. Committee Q&A

IV. Public Comment

V. Adjournment

Dated: October 27, 2020.
David Mussatt,
Supervisory Chief, Regional Programs Unit.

[FR Doc. 2020-24110 Filed 11-19-20; 8:45 am]

BILLING CODE P